DEPARTMENT OF COMMERCE

International Trade Administration

[A-489-849]

Certain Paper Shopping Bags From the Republic of Turkey: Final Affirmative Determination of Sales at Less Than Fair Value

AGENCY: Enforcement and Compliance, International Trade Administration, Department of Commerce.

SUMMARY: The U.S. Department of Commerce (Commerce) determines that certain paper shopping bags (paper shopping bags) from the Republic of Turkey (Turkey) are being, or are likely to be, sold in the United States at less than fair value (LTFV) during the period of investigation (POI) April 1, 2022, through March 31, 2023.

DATES: Applicable March 18, 2024.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On January 3, 2024, Commerce published the preliminary determination in this LTFV investigation in the Federal Register.¹ Although we provided interested parties with an opportunity to comment on the Preliminary Determination, no interested party submitted comments on the Preliminary Determination, other than scope comments, which we have addressed in a Final Scope Decision Memorandum.² On March 5, 2024, Commerce held a hearing regarding scope comments filed in the LTFV investigations of paper shopping bags from Cambodia, the People's Republic of China, Colombia, India, Malaysia, Portugal, Taiwan, Turkey, and the Socialist Republic of Vietnam.³

¹ See Certain Paper Shopping Bags from the Republic of Turkey: Preliminary Affirmative Determination of Sales at Less Than Fair Value, 89 FR 339 (January 3, 2024) (Preliminary Determination), and accompanying Preliminary Decision Memorandum.

² See Memorandum, “Final Scope Decision Memorandum,” dated concurrently with this notice (Final Scope Decision Memorandum).

³ See Memorandum, “Hearing Schedule,” dated February 21, 2024.

Scope of the Investigation

The products covered by this investigation are paper shopping bags from Turkey. For a complete description of the scope of this investigation, see the appendix to this notice.

Scope Comments

During the course of this investigation, Commerce received scope comments from parties. Commerce issued a Preliminary Scope Decision Memorandum to address these comments and set aside a period of time for parties to address scope issues in scope-specific case and rebuttal briefs.⁴ We received comments from parties on the Preliminary Scope Decision Memorandum, which we address in the Final Scope Decision Memorandum. We did not make any changes to the scope of the investigation from the scope published in the Preliminary Determination.

⁴ See Memorandum, “Preliminary Scope Decision Memorandum,” dated December 27, 2023 (Preliminary Scope Decision Memorandum).

Use of Adverse Facts Available (AFA)

Pursuant to section 776(a) and (b) of the Tariff Act of 1930, as amended (the Act), we have continued to assign the specific companies that are listed in the table below an estimated weighted-average dumping margin based on adverse facts available (AFA), because these companies failed to cooperate to the best of their ability in responding to Commerce's requests for information. For the reasons explained in the Preliminary Determination, and consistent with Commerce's practice, as AFA, we assigned these companies the highest corroborated dumping margin alleged in the petition.⁵

⁵ See, e.g., Welded Stainless Pressure Pipe from Thailand: Final Determination of Sales at Less Than Fair Value, 79 FR 31093 (May 30, 2014), and accompanying Issues and Decision Memorandum (IDM) at Comment 3; see also Checklist, “Antidumping Duty Investigation Initiation Checklist,” dated June 20, 2023 (Initiation Checklist); and Petitioner's Letter, “Response of Petitioner to Volume IX Supplemental Questionnaire,” dated June 12, 2023 at Exhibit IX-S9 (Petition Supplement). The petitioner consists of members of the Coalition for Fair Trade in Shopping Bags, which include Novolex Holdings, LLC and the United Steel, Paper and Forestry, Rubber, Manufacturing, Energy, Allied Industrial and Service Workers International Union.

All-Others Rate

As discussed in the Preliminary Determination, in the absence of a calculated estimated weighted-average dumping margin on the record of this investigation, and pursuant to section 735(c)(5) of the Act and its practice,⁶ Commerce assigned a simple average of the dumping margins that were alleged in the Petition, i.e., 26.32 percent,⁷ to all other producers and exporters of subject merchandise that are not specifically listed in the table below.

⁶ See, e.g., Notice of Final Determination of Sales at Less Than Fair Value: Sodium Nitrite from the Federal Republic of Germany, 73 FR 38986, 38987 (July 8, 2008), and accompanying IDM at Comment 2.

⁷ See Initiation Checklist and Petition Supplement.

Final Determination

Commerce determines that the following estimated dumping margins exist for the period, April 1, 2022, through March 31, 2023:

Exporter/producer | Estimated weighted-average dumping margin (percent)
Artpack Kagit Ambalaj Anonim Sirketi | * 47.56
Oztas Ambalaj Sanayi ve Ticaret A.S | * 47.56
Babet Kagitsilik | * 47.56
Bati Kraft Torba Ambalaj | * 47.56
BFT Packaging | * 47.56
Cicupack Ambalaj | * 47.56
Ekopack Kagit Ambalaj | * 47.56
Elhadefler A.S | * 47.56
Esda Pack Ambalaj | * 47.56
Haypack Ambalaj | * 47.56
Jefira Global Dis | * 47.56
Kahramanmaraş Kağıt Sanayi ve Ticaret Anonim Şirketi | * 47.56
Multi Kraft Ambalaj | * 47.56
Rad Tekstil | * 47.56
Suleyman Tabak Kagitcilik | * 47.56
Sunvision Tekstil | * 47.56
Umur Basim | * 47.56
Yildez Paper Bag Ambalaj Pazarlama | * 47.56
All Others | 26.32
* Rate based on AFA.

Disclosure

Because Commerce received no comments on the Preliminary Determination, we have not modified our analysis and no decision memorandum accompanies this Federal Register notice. We are adopting the Preliminary Determination as the final determination in this investigation. Consequently, there are no new calculations to disclose in accordance with 19 CFR 351.224(b) for this final determination.

Continuation of Suspension of Liquidation

Commerce will direct U.S. Customs and Border Protection (CBP) to continue to suspend liquidation of entries of the merchandise described in the scope of this investigation where that merchandise was entered, or withdrawn from warehouse, for consumption on or after January 3, 2024, which is the date of publication of the Preliminary Determination in this investigation in the Federal Register. Pursuant to section 735(c)(1)(B)(ii) of the Act and 19 CFR 351.210(d), Commerce will also instruct CBP to require the posting of an antidumping duty cash deposit.

The cash deposit requirements are as follows: (1) the cash deposit rate for the companies listed in the table above will be equal to the company-specific estimated weighted-average dumping margin listed for the company in the table; (2) if the exporter of the subject merchandise is not identified in the table above, but the producer is, then the cash deposit rate will be equal to the company-specific estimated weighted-average dumping margin established for that producer of the subject merchandise; and (3) the cash deposit rate for all other producers and exporters of subject merchandise will be equal to the all-others estimated weighted-average dumping margin listed in the table above.

These suspension of liquidation instructions will remain in effect until further notice.

U.S. International Trade Commission Notification

In accordance with section 735(d) of the Act, Commerce will notify the U.S. International Trade Commission (ITC) of its final affirmative determination of sales at LTFV. Because the final determination in this proceeding is affirmative, in accordance with section 735(b)(2) of the Act, the ITC will make its final determination as to whether the domestic industry in the United States is materially injured, or threatened with material injury, before the later of 120 days after the date that Commerce made its affirmative preliminary determination in this investigation or 45 days after the date of this final determination. If the ITC determines that material injury, or the threat of material injury, does not exist, the proceeding will be terminated, and all cash deposits will be refunded. If the ITC determines that material injury, or the threat of material injury, exists, Commerce will issue an antidumping duty order directing CBP to assess, upon further instruction by Commerce, antidumping duties on all imports of the subject merchandise, entered, or withdrawn from warehouse, for consumption on or after the effective date of the suspension of liquidation.

Administrative Protective Order

This notice serves as the only reminder to parties subject to an administrative protective order (APO) of their responsibility concerning the disposition of proprietary information disclosed under APO in accordance with 19 CFR 351.305(a)(3). Timely notification of the return, or destruction, of APO materials, or conversion to judicial protective order, is hereby requested. Failure to comply with the regulations and the terms of an APO is a violation subject to sanction.

Notification to Interested Parties

This determination and this notice are issued and published in accordance with sections 735(d) and 777(i) of the Act, and 19 CFR 351.210(c).

Dated: March 11, 2024.
Ryan Majerus,
Deputy Assistant Secretary for Policy and Negotiations, performing the non-exclusive functions and duties of the Assistant Secretary for Enforcement and Compliance.

Appendix

Scope of the Investigation

The products within the scope of this investigation are paper shopping bags with handles of any type, regardless of whether there is any printing, regardless of how the top edges are finished (e.g., folded, serrated, or otherwise finished), regardless of color, and regardless of whether the top edges contain adhesive or other material for sealing closed. Subject paper shopping bags have a width of at least 4.5 inches and depth of at least 2.5 inches.

Paper shopping bags typically are made of kraft paper but can be made from any type of cellulose fiber, paperboard, or pressboard with a basis weight less than 300 grams per square meter (GSM).

A non-exhaustive illustrative list of the types of handles on shopping bags covered by the scope include handles made from any materials such as twisted paper, flat paper, yarn, ribbon, rope, string, or plastic, as well as die-cut handles (whether the punchout is fully removed or partially attached as a flap).

Excluded from the scope are:

• paper sacks or bags that are of a ⅙ or ⅐ barrel size (i.e., 11.5-12.5 inches in width, 6.5-7.5 inches in depth, and 13.5-17.5 inches in height) with flat paper handles or die-cut handles;

• paper sacks or bags with die-cut handles, a grams per square meter paper weight of less than 86 GSM, and a height of less than 11.5 inches; and

• paper sacks or bags (i) with non-paper handles made wholly of woven ribbon or other similar woven fabric ⁸ and (ii) that are finished with folded tops or for which tied knots or t-bar aglets (made of wood, metal, or plastic) are used to secure the handles to the bags.

⁸ Paper sacks or bags with handles made of braided or twisted materials, such as rope or cord, do not qualify for this exclusion.

The above-referenced dimensions are provided for paper bags in the opened position. The height of the bag is the distance from the bottom fold edge to the top edge (i.e., excluding the height of handles that extend above the top edge). The depth of the bag is the distance from the front of the bag edge to the back of the bag edge (typically measured at the bottom of the bag). The width of the bag is measured from the left to the right edges of the front and back panels (upon which the handles typically are located).

This merchandise is currently classifiable under Harmonized Tariff Schedule of the United States (HTSUS) subheadings 4819.30.0040 and 4819.40.0040. The HTSUS subheadings are provided for convenience and customs purposes only; the written description of the scope is dispositive.

[FR Doc. 2024-05675 Filed 3-15-24; 8:45 am]

BILLING CODE 3510-DS-P